DEPARTMENT OF EDUCATION

International Education Programs Service—Fulbright-Hays Group Projects Abroad Program

Catalog of Federal Domestic Assistance (CFDA) Number: 84.021.

AGENCY: Office of Postsecondary Education, Department of Education.

ACTION: Notice of proposed priorities.

SUMMARY: The Assistant Secretary for Postsecondary Education proposes two priorities for the Fulbright-Hays Group Projects Abroad Program administered by the International Education Programs Service. The Assistant Secretary may use these priorities for competitions in fiscal year (FY) 2011 and later years.

We intend these two priorities to help increase the number of teachers at the Kindergarten-grade 12 (K-12) level with skills in a second language and knowledge of other cultures around the world by supporting: (1) short-term projects abroad that provide pre-service teachers with training or courses in foreign languages and international area studies as part of a teacher education curriculum developed through collaboration between colleges or departments of education and colleges or departments of arts and sciences within institutions of higher education, and (2) projects that propose 50 percent or greater participation of K-12 teachers, K-12 administrators, or both in short-term projects abroad. The first priority helps give pre-service teachers a deeper knowledge of languages and cultures from around the world. The second priority helps increase the study abroad opportunities for in-service teachers, giving these individuals exposure to another country and its culture.

DATES: We must receive your comments on or before June 14, 2010.

ADDRESSES: Address all comments about this notice to Michelle Guilfoil, U.S. Department of Education, 1990 K Street, NW., room 6098, Washington, DC 20006-8544. If you prefer to send your comments by e-mail, use the following address: comments@ed.gov.

You must include the following information in the subject line of your electronic message: “Priorities for Fulbright-Hays Group Projects Abroad Program, International Education Programs Service.”

FOR FURTHER INFORMATION CONTACT: Michelle Guilfoil. Telephone: (202) 502-7625 or by e-mail: Michelle.Guilfoil@ed.gov.

If you use a telecommunications device for the deaf (TDD), call the Federal Relay Service (FRS), toll free, at 1-800-877-8339.

SUPPLEMENTARY INFORMATION:

Invitation to Comment

We invite you to submit comments regarding this notice. To ensure that your comments have maximum effect in developing the notice of final priorities, we urge you to identify clearly the specific proposed priority that each comment addresses.

We invite you to assist us in complying with the specific requirements of Executive Order 12866 and its overall requirement of reducing regulatory burden that might result from these proposed priorities. Please let us know of any further ways we could reduce potential costs or increase potential benefits while preserving the effective and efficient administration of the program.

During and after the comment period, you may inspect all public comments about this notice in room 6154, 1990 K Street, NW., Washington, DC, between the hours of 8:30 a.m. and 4:00 p.m., Washington, DC time, Monday through Friday of each week except Federal holidays.

Assistance to Individuals With Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Fulbright-Hays Group Projects Abroad Program is to contribute to the development and improvement of the study of modern foreign languages and area studies in the United States by providing opportunities for teachers, students, and faculty to study in foreign countries. Projects may include short-term seminars, curriculum development, or group research or study.

Program Authority: 22 U.S.C. 2452(b)(6).

Applicable Program Regulations: 34 CFR part 664.

Proposed Priorities:

This notice contains two proposed priorities.

Background

The GPA Program

The U.S. Department of Education administers the Fulbright-Hays Group Projects Abroad (GPA) Program under the authority of section 102(b)(6) of the Mutual Educational and Cultural Exchange Act of 1961 (Fulbright-Hays Act), 22 U.S.C. 2452(b)(6). The Presidentially appointed J. William Fulbright Foreign Scholarship Board sets policies and procedures for administering the program and exercises final approval over the selection of grantees.

The objective of the GPA Program is the promotion, improvement, and development of modern foreign languages and area studies at all levels of education. To help accomplish this objective, the GPA Program provides opportunities for faculty, teachers, and undergraduate and graduate students to conduct group projects overseas to do research and study in the fields of modern foreign languages and area studies.

There are three types of short-term projects abroad in the GPA Program: (1) Short-term seminar projects of four to six weeks in length designed to increase the linguistic or cultural competency of U.S. students and educators by focusing on a particular aspect of area study, such as the culture of an area or country of study (34 CFR 664.11); (2) curriculum development projects of four to eight weeks in length that provide participants an opportunity to acquire resource materials for curriculum development in modern foreign language and area studies for use and dissemination in the United States (34 CFR 664.12); and (3) group research or study projects of three to twelve months in duration designed to give participants the opportunity to undertake research or study in a foreign country (34 CFR 664.13).¹

¹ In addition to the short-term projects abroad, which are addressed by these proposed priorities, the GPA Program also awards grants for advanced overseas intensive language projects (34 CFR 664.14), which are not addressed by these proposed priorities.

The types of priorities used in the GPA Program are described in 34 CFR 664.32. We are proposing these priorities in addition to those listed in that section.

Proposed Priority One. Many U.S. students, especially those in low-income and minority communities, graduate from high school without a knowledge of other countries and their cultures. There is evidence that greater exposure of teachers to other cultures and foreign languages can help eradicate this situation. Schools and/or departments of education have a role to play in creating greater exposure since they are central to the preparation of future teachers. Increased collaboration with other departments and/or schools focused on foreign language and/or area and international studies can improve the capacity of these schools and/or departments of education to prepare future teachers with the skills required to teach students to understand other peoples and cultures around the world.

Proposed priority one therefore would promote the internationalization of teacher education and would expand the capabilities of participating teachers to educate students who will work and live in a world with an increased exposure to diverse cultures and languages.

Proposed Priority Two. Proposed priority two would promote the internationalization of K-12 education and would encourage the participation of K-12 teachers in group projects abroad that develop and improve K-12 foreign language and area studies. Although past projects funded under this program have included groups abroad that include K-12 teachers, K-12 teachers have not always been represented in those groups in substantial numbers. We believe that internationalization of K-12 education can occur more readily when a mixed group of educators is comprised of a greater number of K-12 teachers so that the study abroad activities of the group support the development of curriculum at the elementary and secondary levels. Accordingly, proposed priority two would support projects in which at least 50 percent of the participants are K-12 teachers or administrators.

Proposed Priority 1—Projects That Provide Pre-Service Teachers With Training or Courses in Foreign Languages and International Area Studies as Part of a Teacher Education Curriculum Developed Through Collaboration Between Colleges or Departments of Education and Colleges or Departments of Arts and Sciences Within Institutions of Higher Education.

Applications that, through collaborative efforts between one or more colleges or departments of education and one or more colleges or departments of arts and sciences within a single institution of higher education or within a consortium of higher education institutions, propose short-term projects abroad that provide pre-service teachers with training or courses in foreign languages and international area studies as part of the teacher education curriculum.

Proposed Priority 2—Projects That Provide 50 Percent or Greater Participation of K-12 Teachers, or K-12 Administrators, or Both in Short-Term Projects Abroad.

Applications that propose short-term projects abroad that develop and improve foreign language studies, area studies, or both at elementary and secondary schools by including K-12 teachers or K-12 administrators as at least 50 percent of the project participants.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities:

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use one or more of these priorities, we invite applications through a notice in the Federal Register.

Executive Order 12866: This notice of proposed priorities has been reviewed in accordance with Executive Order 12866. Under the terms of the order, we have assessed the potential costs and benefits of this proposed regulatory action.

The potential costs associated with this proposed regulatory action are those resulting from statutory requirements and those we have determined as necessary for administering these programs effectively and efficiently.

In assessing the potential costs and benefits—both quantitative and qualitative—of this proposed regulatory action, we have determined that the benefits of the proposed priorities justify the costs.

We have also determined that this regulatory action does not unduly interfere with State, local, and tribal governments in the exercise of their governmental functions.

Intergovernmental Review: These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: May 7, 2010.
Daniel T. Madzelan,
Director, Forecasting and Policy Analysis.

[FR Doc. 2010-11402 Filed 5-12-10; 8:45 am]

BILLING CODE 4000-01-P